GENERAL SERVICES ADMINISTRATION

41 CFR Chapters 101, 102, 105, 300, 301, 302, and 304

48 CFR Chapter 5

Semiannual Regulatory Agenda

AGENCY: General Services Administration (GSA).

ACTION: Semiannual Regulatory Agenda.

SUMMARY: This agenda provides summary descriptions of regulations being developed by GSA in accordance with Executive Order 12866 “Regulatory Planning and Review,” and Executive Order 13563 “Improving Regulation and Regulatory Review.” GSA's purpose in publishing this agenda is to allow interested persons an opportunity to participate in the rulemaking process. GSA also invites interested persons to recommend existing significant regulations for review to determine whether they should be modified or eliminated. Published proposed rules may be reviewed in their entirety at the Government's rulemaking website at http://www.regulations.gov.

Additional information on these entries may be reviewed in their entirety at the Government's rulemaking website at http://www.regulations.gov and will continue to be printed in the Federal Register.

FOR FURTHER INFORMATION CONTACT: Lois Mandell, Division Director, Regulatory Secretariat Division, 1800 F Street NW, 2nd Floor, Washington, DC 20405-0001, 202-501-2735.

Dated: September 8, 2021.
Krystal J. Brumfield,
Associate Administrator, Office of Government-wide Policy.

General Services Administration—Proposed Rule Stage
Sequence No. | Title | Regulation Identifier No.
382 | General Services Administration Acquisition Regulation (GSAR); GSAR Case 2019-G503, Streamlining GSA Commercial Contract Clause Requirements | 3090-AK09
383 | General Services Administration Acquisition Regulation (GSAR); GSAR Case 2020-G502, Increasing Order Level Competition for Federal Supply Schedules | 3090-AK15
384 | General Services Administration Acquisition Regulation (GSAR); GSAR Case 2020-G503, Increasing Order Level Competition for Indefinite-Delivery, Indefinite-Quantity Contracts | 3090-AK16
385 | General Services Administration Acquisition Regulation (GSAR); GSAR Case 2020-G504, Federal Supply Schedule Catalog Management | 3090-AK17
386 | General Services Administration Acquisition Regulation (GSAR); GSAR Case 2020-G505, Clarify Commercial Products and Services Contract Terms and Conditions | 3090-AK18
387 | General Services Administration Acquisition Regulation (GSAR); GSAR Case 2020-G510, Federal Supply Schedule Economic Price Adjustment | 3090-AK20
388 | General Services Administration Acquisition Regulation (GSAR); GSAR Case 2020-G511, Updated Guidance for Non-Federal Entities Access to Federal Supply Schedules | 3090-AK21
389 | General Services Administration Acquisition Regulation (GSAR); GSAR Case 2020-G534, Extension of Certain Telecommunication Prohibitions to Lease Acquisitions | 3090-AK29
390 | General Services Administration Acquisition Regulation (GSAR); GSAR Case 2021-G522, Contract Requirements for High-Security Leased Space | 3090-AK39
391 | General Services Administration Acquisition Regulations (GSAR); GSAR 2021-G520, Economic Price Adjustment for Deregulated Electric Supplies | 3090-AK48
392 | General Services Administration Acquisition Regulation (GSAR); GSAR Case 2021-G530, Extension of Federal Minimum Wage to Lease Acquisitions | 3090-AK51

General Services Administration—Final Rule Stage
Sequence No. | Title | Regulation Identifier No.
393 | General Services Administration Acquisition Regulation (GSAR); GSAR Case 2016-G511, Contract Requirements for GSA Information Systems | 3090-AJ84
394 | General Services Administration Acquisition Regulation (GSAR); GSAR Case 2020-G509, Extending Federal Supply Schedule Orders Beyond the Contract Term | 3090-AK19
395 | General Services Administration Acquisition Regulation (GSAR); GSAR 2021-G527, Immediate and Highest-Level Owner for High-Security Leased Space | 3090-AK44

GENERAL SERVICES ADMINISTRATION (GSA)

Office of Acquisition Policy

Proposed Rule Stage

382. General Services Administration Acquisition Regulation (GSAR); GSAR Case 2019-G503, Streamlining GSA Commercial Contract Clause Requirements

Legal Authority: 40 U.S.C. 121(c)

Abstract: The General Services Administration (GSA) is proposing to amend the General Services Administration Acquisition Regulation (GSAR) to streamline requirements for GSA commercial contracts. This rule will update GSAR Clauses 552.212-71 and 552.212-72 to remove any requirements that are not necessary by law or Executive Order.

Timetable:

Action | Date | FR Cite
NPRM | 02/00/22
NPRM Comment Period End | 04/00/22

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK09

383. General Services Administration Acquisition Regulation (GSAR); GSAR Case 2020-G502, Increasing Order Level Competition for Federal Supply Schedules

Legal Authority: 40 U.S.C. 121(c); Pub. L. 115-232 sec. 876

Abstract: The General Services Administration (GSA) is proposing to amend the General Services Administration Acquisition Regulation (GSAR) to implement section 876 of the National Defense Authorization Act (NDAA) for Fiscal Year (FY) 2019 (Pub. L. 115-232) as it relates to Federal Supply Schedule contracts. Section 876 amended 41 U.S.C. 3306(c) by providing an exception to the requirement to consider price as an evaluation factor for the award of certain indefinite-delivery, indefinite-quantity contracts and Federal Supply Schedule contracts. A separate case, GSAR Case 2020-G503, will address the implementation of Section 876 in relation to other indefinite-delivery, indefinite-quantity contracts.

Timetable:

Action | Date | FR Cite
ANPRM | 08/19/20 | 85 FR 50989
ANPRM Comment Period End | 09/18/20
NPRM | 03/00/22
NPRM Comment Period End | 05/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK15

384. General Services Administration Acquisition Regulation (GSAR); GSAR Case 2020-G503, Increasing Order Level Competition for Indefinite-Delivery, Indefinite-Quantity Contracts

Legal Authority: 40 U.S.C. 121(c); Pub. L. 115-232, sec. 876

Abstract: The General Services Administration (GSA) is proposing to amend the General Services Administration Acquisition Regulation (GSAR) to implement section 876 of the National Defense Authorization Act (NDAA) for Fiscal Year (FY) 2019 (Pub. L. 115-232) as it relates to certain indefinite-delivery, indefinite-quantity contracts. Section 876 amended 41 U.S.C. 3306(c) by providing an exception to the requirement to consider price as an evaluation factor for the award of certain indefinite-delivery, indefinite-quantity contracts and Federal Supply Schedule contracts. A separate case, GSAR Case 2020-G502, will address the implementation of section 876 in relation to Federal Supply Schedule contracts.

Timetable:

Action | Date | FR Cite
NPRM | 03/00/22
NPRM Comment Period End | 05/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK16

385. General Services Administration Acquisition Regulation (GSAR); GSAR Case 2020-G504, Federal Supply Schedule Catalog Management

Legal Authority: 40 U.S.C. 121(c)

Abstract: The General Services Administration (GSA) is proposing to amend the General Services Administration Acquisition Regulation (GSAR) to consolidate all terms related to Federal Supply Schedule catalog management, which are currently spread across multiple clauses, into one consolidated clause.

Timetable:

Action | Date | FR Cite
NPRM | 04/00/22
NPRM Comment Period End | 06/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK17

386. General Services Administration Acquisition Regulation (GSAR); GSAR Case 2020-G505, Clarify Commercial Products and Services Contract Terms and Conditions

Legal Authority: 40 U.S.C. 121(c)

Abstract: The General Services Administration (GSA) is proposing to amend the General Services Acquisition Regulation (GSAR) to clarify commercial products and services contract terms and conditions. This rule will update GSAR Clause 552.212-4 to clarify the prescription and language applicable for the different clause alternates.

Timetable:

Action | Date | FR Cite
NPRM | 02/00/22
NPRM Comment Period End | 04/00/22

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK18

387. General Services Administration Acquisition Regulation (GSAR); GSAR Case 2020-G510, Federal Supply Schedule Economic Price Adjustment

Legal Authority: 40 U.S.C. 121(c)

Abstract: The General Services Administration (GSA) is proposing to amend the General Services Administration Acquisition Regulation (GSAR) to clarify, update, and incorporate Federal Supply Schedule (FSS) program policies and procedures regarding economic price adjustment, including updating related prescriptions and clauses. This rule will provide unique guidance for contracts based on commercial price lists or not, and contracts with data reporting requirements or not.

Timetable:

Action | Date | FR Cite
NPRM | 04/00/22
NPRM Comment Period End | 06/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK20

388. General Services Administration Acquisition Regulation (GSAR); GSAR Case 2020-G511, Updated Guidance for Non-Federal Entities Access to Federal Supply Schedules

Legal Authority: 40 U.S.C. 121(c); 40 U.S.C. 502

Abstract: The General Services Administration (GSA) is proposing to amend the General Services Administration Acquisition Regulation (GSAR) to streamline and clarify the requirements for use of Federal Supply Schedules by eligible Non-Federal Entities, such as state and local governments. The rule is intended to increase understanding of the existing guidance and expand access to GSA sources of supply by eligible Non-Federal Entities, as authorized by historic statutes including the Federal Supply Schedules Usage Act of 2010. This rule supports underserved communities, promoting equity in the Federal government.

Timetable:

Action | Date | FR Cite
NPRM | 01/00/22
NPRM Comment Period End | 03/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK21

389. General Services Administration Acquisition Regulation (GSAR); GSAR Case 2020-G534, Extension of Certain Telecommunication Prohibitions to Lease Acquisitions

Legal Authority: 40 U.S.C. 121(c); 5 U.S.C. 801; Pub. L. 115-232 sec. 889

Abstract: The General Services Administration (GSA) is proposing to amend the General Services Administration Acquisition Regulation (GSAR) to prohibit procurement from certain covered entities using covered equipment and services in lease acquisitions pursuant to section 889 of the National Defense Authorization Act (NDAA) for Fiscal Year (FY) 2019 The rule will implement the section 889 requirements in lease acquisitions by requiring inclusion of the related Federal Acquisition Regulation (FAR) provisions and clause. This rule supports the national security priority.

Timetable:

Action | Date | FR Cite
NPRM | 03/00/22
NPRM Comment Period End | 05/00/22

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK29

390. General Services Administration Acquisition Regulation (GSAR); GSAR Case 2021-G522, Contract Requirements for High-Security Leased Space

Legal Authority: 40 U.S.C. 121(c); Pub. L. 116-276

Abstract: The General Services Administration (GSA) is proposing to amend the General Services Administration Acquisition Regulation (GSAR) to incorporate contractor disclosure requirements and access limitations for high-security leased space pursuant to the Secure Federal Leases Act. Covered entities are required to identify whether the beneficial owner of a high-security leased space, including an entity involved in the financing thereof, is a foreign person or entity when first submitting a proposal and annually thereafter. This rule supports the national security priority.

Timetable:

Action | Date | FR Cite
NPRM | 12/00/21
NPRM Comment Period End | 02/00/22

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK39

391. • General Services Administration Acquisition Regulations (GSAR); GSAR 2021-G520, Economic Price Adjustment for Deregulated Electric Supplies

Legal Authority: 40 U.S.C. 121(c)

Abstract: The U.S. General Services Administration (GSA) is proposing to amend the General Services Administration Acquisition Regulation (GSAR) to revise internal agency approval procedures to allow the use of an economic price adjustment clause for deregulated electric supplies under fixed-price contracts. This rule will better account for regional variability in prices, which are controlled by the Federal Energy Regulatory Commission under section 205 and 206 of the Federal Power Act.

Timetable:

Action | Date | FR Cite
NPRM | 01/00/22
NPRM Comment Period End | 03/00/22

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK48

392. • General Services Administration Acquisition Regulation (GSAR); GSAR Case 2021-G530, Extension of Federal Minimum Wage to Lease Acquisitions

Legal Authority: 40 U.S.C. 121(c)

Abstract: The General Services Administration (GSA) is proposing to amend the General Services Administration Acquisition Regulation (GSAR) to extend the requirements of Executive Order 14026 (Increasing the Minimum Wage for Federal Contractors) and Department of Labor regulations (29 CFR part 23) to lease acquisitions where the Davis Bacon Act applies by requiring inclusion of the related Federal Acquisition Regulation (FAR) clause. Generally, the FAR does not apply to leasehold acquisitions of real property. However, several FAR clauses have been adopted based on requirements through GSAR part 570. The Federal minimum wage requirements apply to Government lease acquisitions where the Davis Bacon Act applies and extension of the FAR requirements will ensure compliance. The Executive order seeks to increase efficiency and cost savings in the work performed by parties who contract with the Federal Government by increasing to $15.00 the hourly minimum wage paid to those contractors. This rule promotes economic resilience, and improves the buying power of U.S. citizens.

Timetable:

Action | Date | FR Cite
NPRM | 01/00/22
NPRM Comment Period End | 03/00/22

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK51

GENERAL SERVICES ADMINISTRATION (GSA)

Office of Acquisition Policy

Final Rule Stage

393. General Services Administration Acquisition Regulation (GSAR); GSAR Case 2016-G511, Contract Requirements for GSA Information Systems

Legal Authority: 40 U.S.C. 121(c)

Abstract: The General Services Administration (GSA) is amending the General Services Administration Acquisition Regulation (GSAR) to streamline and update requirements for contracts that involve GSA information systems. GSA's policies on cybersecurity and other information technology requirements have been previously issued and communicated by the Office of the Chief Information Officer through the GSA public website. By incorporating these requirements into the GSAR, the GSAR will provide centralized guidance to ensure consistent application across the organization. This rule supports the national security priority.

This rule will require contracting officers to incorporate applicable GSA cybersecurity requirements within the statement of work to ensure compliance with Federal cybersecurity requirements and implement best practices for preventing cyber incidents. Contract requirements for internal information systems, external contractor systems, cloud systems, and mobile systems will be covered by this rule. This rule will also update existing GSAR provision 552.239-70, Information Technology Security Plan and Security Authorization, and GSAR clause 552.239-71, Security Requirements for Unclassified Information Technology Resources, to only require the provision and clause when the contract will involve information or information systems connected to a GSA network.

Timetable:

Action | Date | FR Cite
NPRM | 09/10/21 | 86 FR 50689
NPRM Comment Period End | 11/09/21
Final Rule | 06/00/22

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AJ84

394. General Services Administration Acquisition Regulation (GSAR); GSAR Case 2020-G509, Extending Federal Supply Schedule Orders Beyond the Contract Term

Legal Authority: 40 U.S.C. 121(c)

Abstract: The General Services Administration (GSA) is amending the General Services Administration Acquisition Regulation (GSAR) to incorporate existing internal Federal Supply Schedule (FSS) policy concerning the option to extend the term of the contract and performance of orders beyond the term of the base FSS contract.

Timetable:

Action | Date | FR Cite
NPRM | 08/31/21 | 86 FR 48617
NPRM Comment Period End | 11/01/21
Final Rule | 02/00/22

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK19

395. • General Services Administration Acquisition Regulation (GSAR); GSAR 2021-G527, Immediate and Highest-Level Owner for High-Security Leased Space

Legal Authority: 40 U.S.C. 121(c)

Abstract: GSA is amending the General Services Administration Acquisition Regulation (GSAR) to implement certain requirements outlined in the Secure Federal LEASEs Act (Pub. L. 116-276). The Act addresses the risks of foreign ownership of Government-leased real estate and requires the disclosure of ownership information for high-security space leased to accommodate a Federal agency. This rule supports the national security priority.

Timetable:

Action | Date | FR Cite
Interim Final Rule Effective | 06/30/21
Interim Final Rule | 07/01/21 | 86 FR 34966
Interim Final Rule Comment Period End | 08/30/21
Final Rule | 06/00/22

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK44

[FR Doc. 2021-27965 Filed 1-28-22; 8:45 am]

BILLING CODE 6820-34-P